DEPARTMENT OF AGRICULTURE

Farm Service Agency

Information Collection Request; General Program Administration

AGENCY: Farm Service Agency, USDA.

ACTION: Notice; request for comments.

SUMMARY: In accordance with the Paperwork Reduction Act of 1995, the Farm Service Agency (FSA) is requesting comments from all interested individuals and organizations on an extension with a revision of a currently approved information collection associated with FSA's Farm Loan Programs (FLP) General Program Administration. The information collected is used to ensure that applicants meet statutory eligibility requirements, loan funds are used for authorized purposes, and the Government's interest in security is adequately protected.

DATES: We will consider comments that we receive by March 14, 2017.

ADDRESSES: We invite you to submit comments on this notice. In your comments, include date, volume, and page number of this issue of the Federal Register. You may submit comments by any of the following methods:

• Federal Rulemaking Portal: Go to http://www.regulations.gov. Follow the online instructions for submitting comments.

• Mail: Niki Chavez, Senior Loan Officer, USDA/FSA/FLP, STOP 0521, 1400 Independence Avenue SW., Washington, DC 20250-0521.

You may also send comments to the Desk Officer for Agriculture, Office of Information and Regulatory Affairs, Office of Management and Budget, Washington, DC 20253. Copies of the information collection may be requested by contacting Niki Chavez at the above address.

FOR FURTHER INFORMATION CONTACT: Niki Chavez, (202) 690-6129.

SUPPLEMENTARY INFORMATION: Title: Farm Loan Programs, General Program Administration.

OMB Control Number: 0560-0238.

Expiration Date of Approval: 05/31/2017.

Type of Request: Extension with a revision.

Abstract: General Program Administration, as specified in the 7 CFR 761, contains requirements that are applicable to making and servicing direct loans. The information collections are necessary to ensure that applicants meet statutory eligibility requirements, loan funds are used for authorized purposes, and the Federal Government's interest in security is adequately protected. Specific information collection requirements include financial information in the form of a balance sheet and cash flow projection used in loan making and servicing decisions; information needed to establish joint bank accounts in which loan funds, proceeds derived from the sale of loan security and insurance proceeds, may be deposited; collateral pledges from financial institutions when the balance of a supervised bank account will exceed the maximum amount insurable by the Federal Government; and documents that construction plans and specifications to comply with state and local building standards.

Since the introduction of Microloan Loan (ML) Program certain forms are being used less in this request and there are fewer farmers and businesses reporting information resulting in a total program changes decrease of 6,997 respondents; 16,392 responses; and 19,678 burden hours.

For the following estimated total annual burden on respondents, the formula used to calculate the total burden hours is the estimated average time per response multiplied by the estimated total annual responses.

Estimated Respondent Burden: Public reporting burden for this collection of information is estimated to average 1.12 hours per response. The average travel time, which is included in the total annual burden, is estimated to be 1 hour per respondent.

Type of Respondents: Individuals or households, businesses or other for profit and farms.

Estimated Number of Respondents: 84,833.

Estimated Number of Responses per Respondent: 2.40.

Estimated Total Annual Number of Responses: 204,438.

Estimated Average Time per Response: 1.12 hours.

Estimated Total Annual Burden on Respondents: 229,203 hours.

We are requesting comments on all aspects of this information collection to help us to:

(1) Evaluate whether the collection of information is necessary for the proper performance of the functions of FSA, including whether the information will have practical utility;

(2) Evaluate the accuracy of the FSA's estimate of burden including the validity of the methodology and assumptions used;

(3) Enhance the quality, utility, and clarity of the information to be collected; and

(4) Minimize the burden of the collection of the information on those who are to respond, including through the use of appropriate automated, electronic, mechanical or other technological collection techniques or other forms of information technology.

All responses to this notice, including name and addresses when provided, will be summarized and included in the request for OMB approval. All comments will also become a matter of public record.

Val Dolcini,
Administrator, Farm Service Agency.

[FR Doc. 2017-00650 Filed 1-12-17; 8:45 am]

BILLING CODE 3410-05-P